DEPARTMENT OF VETERANS AFFAIRS

[OMB Control No. 2900-0055]

Agency Information Collection Activity Under OMB Review: Request for Determination of Loan Guaranty Eligibility—Unmarried Surviving Spouses

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by October 3, 2025.

ADDRESSES: To submit comments and recommendations for the proposed information collection, please type the following link into your browser: www.reginfo.gov/public/do/PRAMain, select “Currently under Review—Open for Public Comments”, then search the list for the information collection by Title or “OMB Control No. 2900-0055.”

FOR FURTHER INFORMATION CONTACT: VA PRA information: Dorothy Glasgow, 202-461-1084, VAPRA@va.gov.

SUPPLEMENTARY INFORMATION:

Title: VA Form 26-1817, Request for Determination of Loan Guaranty Eligibility—Unmarried Surviving Spouses.

OMB Control Number: 2900-0055 https://www.reginfo.gov/public/do/PRASearch.

Type of Review: Revision of a currently approved collection.

Abstract: The VA Form 26-1817 is submitted by an unmarried surviving spouse of a veteran whose death was service-connected for determination of eligibility for VA home loan benefits as authorized by 38 U.S.C. 3701(b)(2). Serves to record application and internal VA processing of request including verification on veterans service-connected death and status of applicant as unmarried surviving spouse.

An agency may not conduct or sponsor, and a person is not required to respond to a collection of information unless it displays a currently valid OMB control number. The Federal Register Notice with a 60-day comment period soliciting comments on this collection of information was published at 90 FR 27906, June 30, 2025.

Affected Public: Individuals or Households.

Estimated Annual Burden: 3,125 hours.

Estimated Average Burden per Respondent: 15 minutes.

Frequency of Response: One time.

Estimated Number of Respondents: 12,500.

Authority: 44 U.S.C. 3501 et seq.

Dorothy Glasgow,
Acting, VA PRA Clearance Officer, Office of Enterprise and Integration, Data Governance Analytics, Department of Veterans Affairs.

[FR Doc. 2025-16855 Filed 9-2-25; 8:45 am]

BILLING CODE 8320-01-P